DEPARTMENT OF THE INTERIOR

Fish and Wildlife Service

[FWS-R8-ES-2011-N010; 1112-0000-80221-F2]

Endangered and Threatened Wildlife and Plants; Permits; Joint Supplemental Environmental Impact Report/Environmental Impact Statement, Riverside County, CA

AGENCY: Fish and Wildlife Service, Interior.

ACTION: Notice of intent.

SUMMARY: We, the Fish and Wildlife Service (Service), in coordination with the Coachella Valley Conservation Commission (CVCC), are gathering information necessary for the preparation of a joint Supplemental Environmental Impact Report/Environmental Impact Statement (Supplemental EIR/EIS) under the National Environmental Policy Act (NEPA). This is a Supplemental EIR/EIS to the approved and certified September 2007 Final Recirculated EIR/EIS for the Coachella Valley Multiple Species Habitat Conservation Plan (Plan, or CVMSHCP). The Supplemental EIR/EIS will consider the environmental effects associated with the issuance of an amended permit for the CVMSHCP, adding the City of Desert Hot Springs (City) and Mission Springs Water District (MSWD) as permittees under the Endangered Species Act of 1973 (Act), as amended.We are furnishing this notice to announce the initiation of a public scoping period, during which we invite other agencies, Tribes, and interested persons to provide comments to identify and discuss the scope of issues and alternatives that should be addressed in the Supplemental EIR/EIS.

DATES: Written comments must be received by 5 p.m. on April 29, 2011.

ADDRESSES: Send comments to Mr. Jim A. Bartel, Field Supervisor, U.S. Fish and Wildlife Service, 6010 Hidden Valley Road, Suite 101, Carlsbad, CA 92011. Alternatively, you may submit comments by facsimile to (760) 918-0638.

FOR FURTHER INFORMATION CONTACT: Carol Roberts, Division Chief, Coachella and Imperial Valleys (see ADDRESSES), telephone (760) 431-9440.

SUPPLEMENTARY INFORMATION:

Background

In accordance with section 10(a)(2)(A) of the Endangered Species Act of 1973, as amended (ESA; 16 U.S.C. 1531 et seq.), the Coachella Valley Conservation Commission (CVCC) is preparing a proposed habitat conservation plan (HCP) in support of an application for an amended permit from the Service to incidentally take listed species. Section 9 of the Act (16 U.S.C. 1538) and its implementing regulations prohibit the take of animal species listed as endangered or threatened. The term “take” is defined under the ESA (16 U.S.C. 1532) as to harass, harm, pursue, hunt, shoot, wound, kill, trap, capture, or collect or attempt to engage in such conduct. “Harm” is defined in the Code of Federal Regulations (CFR) by Service regulations at 50 CFR 17.3 to include significant habitat modification or degradation where it actually kills or injures wildlife by significantly impairing essential behavior patterns, including breeding, feeding, or sheltering. In certain circumstances, under section 10(a)(1)(B) of the ESA, we may issue permits to authorize “incidental take” of listed species. “Incidental take” is defined by the ESA as take that is incidental to, and not the purpose of, carrying out an otherwise lawful activity. Regulations governing permits for threatened and endangered species are found at 50 CFR 17.32 and 50 CFR 17.22, respectively. Take of listed plant species on non-Federal lands is not prohibited under the ESA, and authorization under an ESA section 10 permit is not required. However, plant species may be included on a permit in recognition of the conservation benefits provided for them under the HCP. If the permit is issued, the CVCC would receive assurances for all species included on the incidental take permit under the Service's “No Surprises” regulations (50 CFR 17.22 (b)(5) and 17.32 (b)(5)).

Section 10 of the ESA specifies the requirements for the issuance of incidental take permits to non-Federal entities. Any proposed take must be incidental to otherwise lawful activities and must not appreciably reduce the likelihood of the survival and recovery of the species in the wild. The impacts of such take must also be minimized and mitigated to the maximum extent practicable. To obtain an incidental take permit, an applicant must prepare a HCP describing the impact that would likely result from the proposed taking, the measures for minimizing and mitigating the take, the funding available to implement such measures, alternatives to the taking, and the reason why such alternatives are not being implemented.

In February 2006, the Final CVMSHCP and associated Final EIR/EIS were released for review and approval by the participating jurisdictions and agencies as part of the application process to support the issuance of take authorizations by the Service (April 1, 2006, 71 FR 20719). However, in June 2006, the City voted not to approve the Plan. Subsequently, the Coachella Valley Association of Governments (CVAG) Executive Committee rescinded its approval of the Plan and directed that Desert Hot Springs be removed as a Permittee. The CVAG prepared and recirculated a revised Plan and associated EIR/EIS, which removed the City and made other modifications consistent with direction from the CVAG Executive Committee (March 30, 2007, 72 FR 15148).

The revised and recirculated CVMSHCP was approved and the associated Final Recirculated EIR/EIS was certified by CVAG and the CVCC in September 2007 and subsequently by all local Permittees by the end of October 2007. The State Permittees (Caltrans, CVMC, and California State Parks) approved the Plan and signed the Implementing Agreement as of March 2008. The Final Recirculated CVMSHCP, which did not include the City, received final State and Federal permits on September 9 and October 1, 2008, respectively.

However, in a reversal of their June 2006 decision to optout of the Plan, the City Council reconsidered their decision and unanimously approved a Memorandum of Understanding (MOU) in October 2007, stating the parties' mutual intent to enter into negotiations for the City to join the CVMSHCP as a Permittee. The MOU was subsequently approved by the CVCC, CVAG, and the County of Riverside as of February 2008. Subsequent to the City's decision, the MSWD has also made the decision to join the CVMSHCP as a Permittee, and the addition of both entities as Permittees will be evaluated in the Supplemental EIR/EIS.

The Amendment to reinstate the City proposes that the Plan provisions and boundaries will be based on the February 2006 CVMSHCP, with modifications as described in the September 2007 Final Recirculated CVMSHCP to provide for the Riverside County Flood Control and Water Conservation District's future flood control facility. The current Plan boundaries would be amended to include all of the private lands within the City limits and restore the original boundaries of the Upper Mission Creek/Big Morongo Canyon and Whitewater Canyon Conservation Areas within City limits. Adding the City as a Permittee requires a Major Amendment to the CVMSHCP in accordance with the requirements outlined in Section 6.12.4 of the Plan. The procedures outlined in Section 6.12.4 state that Major Amendments require the same process to be followed as for the original CVMSHCP approval, including California Environmental Quality Act and NEPA compliance. In addition, MSWD, not previously a participating agency, has also opted to join the CVMSHCP as a Permittee. MSWD and the City have proposed that a number of infrastructure projects be included as Covered Activities under the Plan. Covered Activities include certain activities carried out or conducted by Permittees, which receive take authorization under an USFWS section 10(a)(1)(B) permit and a State Natural Community Conservation Planning Permit, provided these activities are otherwise lawful. Details of the proposed Covered Activities for an amended permit will be provided in the amended CVMHCP and Supplemental EIR/EIS.

Environmental Impact Statement

Prior to issuing an amendment to the permit, we will prepare a draft Supplemental EIR/EIS to analyze the environmental impacts associated with the issuance of the requested permit amendment and the implementation of the amended CVMSHCP by the City and the MSWD. The Fish and Wildlife Service is the NEPA lead for the Supplemental EIR/EIS, and we are responsible for the scope and content of the document. The Supplemental EIR/EIS will consider the proposed action, the issuance of a section 10(a)(1)(B) permit amendment under the ESA, No Action (no permit amendment), and a reasonable range of alternatives. A detailed description of the impacts of the proposed action and each alternative will be included in the Supplemental EIR/EIS.

The proposed action and alternatives will be evaluated against the No Action alternative, which assumes that no permit amendment will be issued. A range of alternatives will be considered and analyzed, representing varying levels of conservation and impacts. The alternatives to be considered for analysis in the Supplemental EIR/EIS may include: Variations in the scope of covered activities; variations in the location, amount, and type of conservation; variations in permit duration; or a combination of these elements. The Supplemental EIR/EIS will also identify potentially significant direct, indirect, and cumulative impacts on biological resources, land use, air quality, water quality, water resources, and socioeconomics, along with other environmental issues that could occur with the implementation of the proposed actions and alternatives. For all potentially significant impacts, the Supplemental EIR/EIS will identify avoidance, minimization, and mitigation measures to reduce these impacts, where feasible, to a level below significance.

Public Comments

Please direct any comments to the Service contact listed above in the ADDRESSES section, and any questions to the Service contact listed in the FOR FURTHER INFORMATION CONTACT section. All comments and materials received, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so.

Authority: This notice is provided under section 10(a) of the ESA and Service regulations for implementing NEPA (40 CFR 1506.6).

Dated: March 24, 2011.
Paul McKim,
Acting Deputy Regional Director, Pacific Southwest Region, Sacramento, California.

[FR Doc. 2011-7420 Filed 3-29-11; 8:45 am]

BILLING CODE 4310-55-P